OFFICE OF PERSONNEL MANAGEMENT

Submission for Review: Combined Federal Campaign, OPM 1417, 3206-0193

AGENCY: U.S. Office of Personnel Management.

ACTION: 60-Day Notice and request for comments.

SUMMARY: The Combined Federal Campaign (CFC), U.S. Office of Personnel Management (OPM) offers the general public and other federal agencies the opportunity to comment on a revision to information collection request (ICR) 3206-0193, Combined Federal Campaign, OPM Form 1417. As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until April 8, 2011. This process is conducted in accordance with 5 CFR 1320.1.

ADDRESSES: Interested persons are invited to submit written comments on the revised information collection to the Combined Federal Campaign Operations, U.S. Office of Personnel Management, 1900 E Street, NW., Room 6484, Washington, DC 20415, Attention: Curtis Rumbaugh or sent via electronic mail to curtis.rumbaugh@opm.gov.

FOR FURTHER INFORMATION CONTACT: A copy of this ICR, with applicable supporting documentation, may be obtained by contacting the Combined Federal Campaign Operations, U.S. Office of Personnel Management, 1900 E Street, NW., Room 6484, Washington, DC 20415, Attention: Curtis Rumbaugh or sent via electronic mail to curtis.rumbaugh@opm.gov.

SUPPLEMENTARY INFORMATION: The CFC OPM Online Form 1417 collects information from the 208 local CFC campaigns to verify campaign results and collect contact information. Revisions to the form include clarifying edits to items numbered 9, 12, and 14 of the Campaign Results Totals screen, the elimination of questions numbered 16-18 of the Campaign Results Totals screen and the addition of one charitable organization to the Campaign Results National Organizations Data Entry screen.

Analysis

Agency: Combined Federal Campaign, U.S. Office of Personnel Management.

Title: OPM Form 1417.

OMB Number: 3260-1093.

Frequency: Annually.

Affected Public: Federal Employees and Retirees.

Number of Respondents: 208.

Estimated Time Per Respondent: 30 minutes.

Total Burden Hours: 104 hours.

U.S. Office of Personnel Management.
John Berry,
Director.

[FR Doc. 2011-2639 Filed 2-4-11; 8:45 am]

BILLING CODE 6325-46-P